DEPARTMENT OF HEALTH AND HUMAN SERVICES

Decision To Evaluate a Petition To Designate a Class of Employees From Clinton Engineering Works in Oak Ridge, TN, To Be Included in the Special Exposure Cohort

AGENCY: National Institute for Occupational Safety and Health (NIOSH), Department of Health and Human Services (HHS).

ACTION: Notice.

SUMMARY: HHS gives notice as required by 42 CFR 83.12(e) of a decision to evaluate a petition to designate a class of employees from Clinton Engineering Works in Oak Ridge, Tennessee, to be included in the Special Exposure Cohort under the Energy Employees Occupational Illness Compensation Program Act of 2000. The initial proposed definition for the class being evaluated, subject to revision as warranted by the evaluation, is as follows:

Facility: Clinton Engineering Works.

Location: Oak Ridge, Tennessee.

Job Titles and/or Job Duties: All guards and service workers who worked in or around the warehouses at the Elza Gate area.

Period of Employment: January 1, 1943 through May 18, 1947.

FOR FURTHER INFORMATION CONTACT: Stuart L. Hinnefeld, Interim Director, Division of Compensation Analysis and Support, National Institute for Occupational Safety and Health (NIOSH), 4676 Columbia Parkway, MS C-46, Cincinnati, OH 45226, Telephone 877-222-7570. Information requests can also be submitted by e-mail to DCAS@CDC.GOV.

John Howard,
Director, National Institute for Occupational Safety and Health.

[FR Doc. 2010-27597 Filed 11-1-10; 8:45 am]

BILLING CODE 4163-19-P